DEPARTMENT OF COMMERCE

Submission for OMB Review; Comment Request

The Department of Commerce will submit to the Office of Management and Budget (OMB) for clearance the following proposal for collection of information under the provisions of the Paperwork Reduction Act (44 U.S.C. chapter 35).

Agency: U.S. Census Bureau.

Title: Current Population Survey (CPS) Basic Demographics.

OMB Control Number: 0607-0049.

Form Number(s): CPS-263, CPS-263(SP), CPS-264, CPS-264(SP), CPS-266, BC-1428, BC-1428(SP), BC-1433, BC-1433(SP), CPS-692.

Type of Request: Extension of a currently approved collection.

Burden Hours: 19,347.

Number of Respondents: 59,000.

Average Hours per Response: 1.64 minutes.

Needs and Uses: The CPS has been the source of official government statistics on employment and unemployment for over 50 years. The Bureau of Labor Statistics (BLS) and the U.S. Census Bureau jointly sponsor the basic monthly survey, and the Census Bureau prepares and conducts all the field work. The Census Bureau provides the BLS with data files and tables. The BLS seasonally adjusts, analyzes, and publishes the results for the labor force data in conjunction with the demographic characteristics. In accordance with the OMB's request, the Census Bureau and the BLS divide the clearance request in order to reflect the joint sponsorship and funding of the CPS program. Title 29, United States Code, Sections 1-9, authorizes the collection of labor force data in the CPS. The justification that follows is in support of the demographic data.

The demographic information collected in the CPS provides a unique set of data on selected characteristics for the civilian noninstitutional population. Some of the demographic information we collect is age, marital status, gender, Armed Forces status, education, race, origin, and family income. We use these data in conjunction with other data, particularly the monthly labor force data, as well as periodic supplement data. We also use these data independently for internal analytic research and for evaluation of other surveys. In addition, we need these data to correctly control estimates of other characteristics to the proper proportions of age, gender, race, and origin.

We use the CPS data on household size and composition, age, education, ethnicity, and marital status to compile monthly averages or other aggregates for national and sub-national estimates. We use these data in four principal ways: In association with other data, such as monthly labor force or periodic supplement publications; for internal analytic research; for evaluation of other surveys and survey results; and as a general purpose sample and survey.

The demographic data are central to the publication of all labor force data in the BLS' monthly report Employment and Earnings. The data set that results from combining the monthly labor force data with the demographic data provides analysts with the ability to understand labor force patterns of many subpopulation groups. This is particularly important since the federal government often directs initiatives at special groups that historically have not conformed to general labor force participation patterns.

Analysts also use the demographic data in association with all supplement publications. (We describe supplements later in this section.) For example, publications that use these data are Fertility of American Women, School Enrollment—Social and Economic Characteristics of Students and Educational Attainment in the United States (Series P-20). Comparably, researchers are able to characterize the population within the subject area of the many supplements conducted in conjunction with the CPS. For instance, the Annual Social and Economic Supplement identifies which subpopulation groups, as established by the demographic variables, experience the highest incidence of poverty. While we collect and support independently the demographic variables, the labor force data, and the supplement inquiries, their use as a combined data set enhances the utility of each.

The Census Bureau also uses the demographic data extensively for internal analytic work. For example, we use these data to develop estimates of family and household types and metropolitan and nonmetropolitan populations. We use these estimates to identify population trends between decennial censuses and to analyze the growth and distribution of various racial and ethnic groups. We may then use this information in preparing reports on these subjects or in determining the accuracy of population controls used throughout the Census Bureau. As is noted below, we use the demographic data to improve our postcensal population estimates (that is, the components of emigration and undocumented immigration).

Also, we use the CPS as a source for other survey samples. A household remains in the CPS sample for 16 months. Other surveys conducted by the Census Bureau may use a CPS sample when it is no longer part of the CPS. In 2006, the National Survey of Fishing, Hunting, and Wildlife-Associated Recreation, sponsored by the Department of the Interior, used retired cases from the CPS sample. The ongoing American Time Use Survey, sponsored by the BLS uses expired CPS sample. By using the CPS demographics to select their samples, other surveys have been able to avoid screening samples and to obtain accurate estimates by demographics.

Another use of the demographic data is in evaluating other survey results. For example, analysts control the results of the National American Housing Survey to the CPS monthly averages of households. Similarly, in order to determine the plausibility of the results of the Survey of Income and Program Participation (SIPP), analysts continuously compare the data on household and family composition from the SIPP to the CPS monthly household and family composition data.

The Census Bureau often uses the CPS as a model and resource for improving the efficiency and quality of other surveys. For example, the Census Bureau designed some items for the SIPP from the CPS. Academicians and researchers have historically used the CPS to better understand the many complexities associated with sample surveys and household interviews in general.

In addition to the collection of demographic and labor force data, the CPS is also a major vehicle for the collection of supplemental questions on various socio-economic topics. In most months of the year we ask supplemental questions after asking the basic labor force questions of all eligible people in a household, thereby maximizing the utility of the CPS sample. We also collect annual data on work experience, income, migration (Annual Social and Economic Supplement), and school enrollment of the population (October supplement). In addition we collect biennial, but separately funded, data on fertility and birth expectations of women of child-bearing age (June), voting and registration (November) and child support and alimony. The BLS, the Census Bureau, other government agencies, and private groups sponsor the supplements.

Affected Public: Individuals or households.

Frequency: Monthly.

Respondent's Obligation: Voluntary.

Legal Authority: Title 13, United States Code, Sections 141, 181, and 182 and Title 29, United States Code, Sections 1-9.

OMB Desk Officer: Brian Harris-Kojetin, (202) 395-7314.

Copies of the above information collection proposal can be obtained by calling or writing Jennifer Jessup, Departmental Paperwork Clearance Officer, (202) 482-0336, Department of Commerce, Room 6616, 14th and Constitution Avenue NW., Washington, DC 20230 (or via the Internet at jjessup@doc.gov).

Written comments and recommendations for the proposed information collection should be sent within 30 days of publication of this notice to Brian Harris-Kojetin, OMB Desk Officer either by fax (202-395-7245) or email (bharrisk@omb.eop.gov).

Dated: May 15, 2014.
Glenna Mickelson,
Management Analyst, Office of the Chief Information Officer.

[FR Doc. 2014-11674 Filed 5-20-14; 8:45 am]

BILLING CODE 3510-07-P